FEDERAL HOUSING FINANCE AGENCY

[No. 2011-N-05]

Proposed Collection; Comment Request

AGENCY: Federal Housing Finance Agency.

ACTION: 60-day notice of submission of information collection for approval from the Office of Management and Budget.

SUMMARY: In accordance with the Paperwork Reduction Act of 1995, Public Law 104-13, the Federal Housing Finance Agency (FHFA) is seeking public comments concerning the information collection known as “Federal Home Loan Bank Directors,” which has been assigned control number 2590-0006 by the Office of Management and Budget (OMB). FHFA intends to submit the information collection to OMB for review and approval of a three-year extension of the control number, which is due to expire on July 31, 2011.

DATES: Interested persons may submit comments on or before July 25, 2011.

ADDRESSES: Submit comments to FHFA using any one of the following methods:

• E-mail: RegComments@fhfa.gov. Please include Proposed Collection; Comment Request: “Federal Home Loan Bank Directors, (No. 2011-N-05)” in the subject line of the message.

• Federal eRulemaking Portal: http://www.regulations.gov. Follow the instructions for submitting comments. If you submit your comment to the Federal eRulemaking Portal, please also send it by e-mail to FHFA at RegComments@fhfa.gov to ensure timely receipt by the agency.

• Mail/Hand Delivery: Federal Housing Finance Agency, Fourth Floor, 1700 G Street NW., Washington, DC 20552, Attention: Public Comments/Proposed Collection; Comment Request: “Federal Home Loan Bank Directors, (No. 2011-N-05).”

We will post all public comments we receive without change, including any personal information you provide, such as your name and address, on the FHFA website at http://www.fhfa.gov. In addition, copies of all comments received will be available for examination by the public on business days between the hours of 10 a.m. and 3 p.m., at the Federal Housing Finance Agency, Fourth Floor, 1700 G Street, NW., Washington, DC 20552. To make an appointment to inspect comments, please call the Office of General Counsel at (202) 414-6924.

FOR FURTHER INFORMATION CONTACT: Patricia L. Sweeney, Management Analyst, Division of Bank Regulation, patricia.sweeney@fhfa.gov, (202) 408-2872, Federal Housing Finance Agency, 1625 Eye Street, NW., Washington, DC 20006, or Eric M. Raudenbush, Assistant General Counsel, eric.raudenbush@fhfa.gov, (202) 414-6421, Federal Housing Finance Agency, Fourth Floor, 1700 G Street, NW., Washington, DC 20552 (these are not toll-free numbers). The telephone number for the Telecommunications Device for the Hearing Impaired is (800) 877-8339.

SUPPLEMENTARY INFORMATION:

A. Need For and Use of the Information Collection

Section 7 of the Federal Home Loan Bank Act (Bank Act) vests the management of each Federal Home Loan Bank (Bank) in its board of directors. See 12 U.S.C. 1427(a)(1). As required by section 7, each Bank's board comprises two types of directors: (1) Member directors, who are drawn from the officers and directors of member institutions located in the Bank's district and who are elected every four years to represent members in a particular state; and (2) independent directors, who are unaffiliated with any Bank member and who are elected every four years on an at-large basis in each Bank district. See 12 U.S.C. 1427(b) and (d). Section 7 and FHFA's implementing regulation, codified at 12 CFR part 1261, establish the eligibility requirements for both types of Bank directors and the qualifications for independent directors, and set forth the procedures for their election.

Under part 1261, the Banks determine the eligibility of nominees for member and independent directorships and administer the annual director election process. As part of this process, candidates for both types of directorship, including incumbents, are required to complete and return to the Bank a form that solicits information about the candidate's statutory eligibility to serve and, in the case of independent director candidates, about his or her qualifications for the directorship being sought. See 12 CFR 1261.7(c) and (f); 12 CFR 1261.14(b). Specifically, member director candidates are required to complete the Federal Home Loan Bank Member Director Eligibility Certification Form (Member Director Eligibility Certification Form), while independent director candidates must complete the Federal Home Loan Bank Independent Director Application Form. Part 1261 also requires that all directors certify annually that they continue to meet all eligibility requirements. See 12 CFR 1261.12. Member Directors do this by completing the Member Director Eligibility Certification Form again every year, while Independent Directors complete the abbreviated Federal Home Loan Bank Independent Director Annual Certification Form to certify their ongoing eligibility.

Affected Public: Private Sector.

Costs: FHFA estimates that there will be no annualized capital/start-up costs for the respondents to collect and submit the information.

Type of Respondents: Individuals who are prospective and incumbent Bank Directors.

B. Burden Estimate

FHFA estimates the total number of respondents is 295, which includes 160 prospective directors (100 member and 60 independent) and 135 incumbent directors (80 member and 55 independent). As explained below, FHFA estimates that the total annual hour burden for all respondents is 278 hours.

1. Prospective and Incumbent Member Directors

FHFA estimates the total annual average hour burden for all the prospective and incumbent member directors is 70 hours. This includes a total annual average of 100 prospective member directors, with 1 response per individual taking an average of 30 minutes (.5 hours) (100 individuals x .5 hours = 50 hours). It also includes a total annual average of 80 incumbent member directors, with 1 response per individual taking an average of 15 minutes (.25 hours) (80 individuals x .25 hours = 20 hours).

2. Prospective and Incumbent and Independent Directors

FHFA estimates the total annual average hour burden for all the prospective and incumbent independent directors is 208. This includes a total annual average of 60 prospective independent directors, with 1 response per individual taking an average of 3 hours (60 individuals x 3 hours = 180 hours). It also includes a total annual average of 55 incumbent independent directors, with 1 response per individual taking an average of 30 minutes (.5 hours) (55 individuals x .5 hours = 28 hours).

C. Comment Request

FHFA requests written comments on the following: (1) Whether the collection of information is necessary for the proper performance of FHFA functions, including whether the information has practical utility; (2) the accuracy of FHFA's estimates of the burdens of the collection of information; (3) ways to enhance the quality, utility, and clarity of the information collected; and (4) ways to minimize the burden of the collection of information on respondents, including through the use of automated collection techniques or other forms of information technology.

Dated: May 18, 2011.
Edward J. DeMarco,
Acting Director, Federal Housing Finance Agency.

BILLING CODE 8070-01-P

[FR Doc. 2011-12686 Filed 5-24-11; 8:45 am]

BILLING CODE 8070-01-C